DEPARTMENT OF ENERGY

Federal Energy Regulatory Commission

[Docket No. IC18-18-000]

Commission Information Collection Activities (FERC-545 and FERC-549C); Consolidated Comment Request; Extension

AGENCY: Federal Energy Regulatory Commission, Department of Energy.

ACTION: Comment request.

SUMMARY: In compliance with the requirements of the Paperwork Reduction Act of 1995, the Federal Energy Regulatory Commission (Commission or FERC) is submitting its information collections FERC-545 [Gas Pipeline Rates: Rate Change (Non-formal)] and FERC-549C (Standards for Business Practices of Interstate Natural Gas Pipelines) to the Office of Management and Budget (OMB) for review of the information collection requirements. Any interested person may file comments directly with OMB and should address a copy of those comments to the Commission as explained below. The Commission previously issued a Notice in the Federal Register on August 16, 2018, requesting public comments. The Commission received no comments on either the FERC-545 or the FERC-549C and will make this notation in its submittals to OMB.

DATES: Comments on the collections of information are due by November 30, 2018.

ADDRESSES: Comments filed with OMB, identified by the OMB Control No. 1902-0154 (FERC-545) and 1902-0174 (FERC-549C), should be sent via email to the Office of Information and Regulatory Affairs: oira_submission@omb.gov. Attention: Federal Energy Regulatory Commission Desk Officer. The Desk Officer may also be reached via telephone at 202-395-8528.

A copy of the comments should also be sent to the Commission, in Docket No. IC18-18-000, by either of the following methods:

• eFiling at Commission's Website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION:

FERC-545, Gas Pipeline Rates: Rate Change (Non-formal)

Title: FERC-545, Gas Pipeline Rates: Rate Change (Non-formal).

OMB Control No.: 1902-0154.

Type of Request: Three-year extension of the FERC-545 information collection requirements with no changes to the current reporting requirements.

Abstract: FERC-545 is required to implement sections 4, 5, and 16 of the Natural Gas Act (NGA), (15 U.S.C. 717c-717o, Pub. L. 75688, 52 Stat. 822 and 830). NGA sections 4, 5, and 16 authorize the Commission to inquire into rate structures and methodologies and to set rates at a just and reasonable level. Specifically, a natural gas company must obtain Commission authorization for all rates and charges made, demanded, or received in connection with the transportation or sale of natural gas in interstate commerce.

Under the NGA, a natural gas company's rates must be just and reasonable and not unduly discriminatory or preferential. The Commission may act under different sections of the NGA to effect a change in a natural gas company's rates. When the Commission reviews rate increases that a natural gas company has proposed, it is subject to the requirement of section 4(e) of the NGA. Under section 4(e), the natural gas company bears the burden of proving that its proposed rates are just and reasonable. On the other hand, when the Commission seeks to impose its own rate determination, it must do so in compliance with section 5(a) of the NGA. Under section 5, the Commission must first establish that its alternative rate proposal is both just and reasonable.

Section 16 of the NGA states that the Commission “shall have the power to perform any and all acts, and to prescribe, issue, make, amend, and rescind such orders, rules, and regulations as it may find necessary or appropriate to carry out provisions of [the NGA].” In other words, section 16 of the NGA grants the Commission the power to define accounting, technical and trade terms, prescribe forms, statements, declarations or reports, and to prescribe rules and regulations.

Pipelines adjust their tariffs to meet market and customer needs. The Commission's review of these proposed changes is required to ensure rates remain just and reasonable and that services are not provided in an unduly or preferential manner. The Commission's regulations in 18 CFR part 154 specify what changes are allowed and the procedures for requesting Commission approval.

The Commission uses information in FERC-545 to examine rates, services, and tariff provisions related to natural gas transportation and storage services. The following filing categories are part of FERC-545: (1) Tariff Filings—filings regarding proposed changes to a pipeline's tariff (including Cost Recovery Mechanisms for Modernization of Natural Gas Facilities filings in Docket No. PL15-1) and any related compliance filings; (2) Rate Filings—rate-related filings under NGA sections 4 and 5 and any related compliance filings and settlements; (3) Informational Reports; (4) Negotiated Rate and Non-Conforming Agreement Filings; and (6) Market-Based Rates for Storage Filings (Part 284.501-505). One-time compliance filings mandated in Order No. 587-W (Docket Nos. RM96-1-038 and RM14-2-003) and Order No. 801 (Docket No. RM14-21-000) are excluded from this data collection renewal.

Type of Respondents: Natural gas pipelines under the jurisdiction of NGA.

Estimate of Annual Burden: ¹ The Commission estimates the annual public reporting burden and cost for the information collection as:

¹ Burden is defined as the total time, effort, or financial resources expended by persons to generate, maintain, retain, or disclose or provide information to or for a Federal agency. For further explanation of what is included in the information collection burden, refer to 5 Code of Federal Regulations 1320.3.

FERC-545—Gas Pipeline Rates: Rate Change (Non-Formal)
| Number of respondents | Average number of responses per respondent | Total number of responses | Average burden hours and cost ($) (rounded) per response ³ ⁴ | Total annual burden hours and total annual cost ($) (rounded) | Cost per respondent ($) (rounded) ⁵
| (1) | (2) = (3) ÷ (1) ² | (3) | (4) | (3) * (4) = (5) | (5) ÷ (1)
Tariff Filings | 124 | 2.597 | 322 | 211 hrs.; $24,054 | 67,942 hrs.; $7,745,388 | $62,463
Rate Filings | 17 | 1.412 | 24 | 354 hrs.; $40,356 | 8,496 hrs.; $968,544 | 56,973
Informational Reports | 101 | 2.347 | 237 | 235 hrs.; $26,790 | 55,695 hrs.; $6,349,230 | 62,864
Negotiated Rates & Non-Conforming Agreement Filings | 65 | 9.923 | 645 | 233 hrs.; $26,562 | 150,285 hrs.; $17,132,490 | 263,577
Market-Base Rates for Storage Filings | 4 | 1 | 4 | 230 hrs.; $26,220 | 920 hrs.; $104,880 | 26,220
Total |  |  | 1,232 |  | 283,338 hrs.; $32,300,532 |

FERC-549C, Standards for Business Practices of Interstate Natural Gas Pipelines

² The average number of responses per respondent was calculated by dividing the total number of responses (Column 3) in each category by the number of respondents (Column 1).

³ The estimated hourly cost (salary plus benefits) provided in this section is based on the salary figures (http://www.bls.gov/oes/current/naics2_22.htm) and benefits (http://www.bls.gov/news.release/ecec.nr0.htm) for May 2017 posted by the Bureau of Labor Statistics for the Utilities sector. The hourly estimates for salary plus benefits are:

Computer and Mathematical (Occupation Code: 15-0000), $63.25.

Economist (Occupation Code: 19-3011), $71.98.

Legal (Occupation Code: 23-0000), $143.68.

Accountants and Auditors: 13-2011), $56.59.

The average hourly cost (salary plus benefits) is calculated weighting each of the aforementioned wage categories as follows: $63.25 (0.05) + $71.98 (0.3) + $143.68 (0.6) + $56.59 (0.05) = $113.79. The Commission rounds it to $114/hour.

⁴ The average costs are rounded to the nearest dollar.

⁵ The average costs per respondent are rounded to the nearest dollar.

OMB Control No.: 1902-0174.

Abstract: The business practice standards under FERC-549C are required to carry out the Commission's policies in accordance with the general authority in sections 4, 5, 7, 8, 10, 14, 16, and 20 of the Natural Gas Act (NGA), ⁶ and sections 311, 501, and 504 of the Natural Gas Policy Act of 1978 (NGPA). ⁷ The Commission adopted these business practice standards in order to update and standardize the natural gas industry's business practices and procedures in addition to improve the efficiency of the gas market and the means by which the gas industry conducts business across the interstate pipeline grid.

⁶ 15 U.S.C. 717c-717w.

⁷ 15 U.S.C. 3301-3432.

In various orders since 1996, the Commission has adopted regulations to standardize the business practices and communication methodologies of interstate natural gas pipelines. These standards were proposed by the North American Energy Standards Board (NAESB ⁸) in order to create a more integrated and efficient pipeline industry.⁹ Generally, when and if NAESB-proposed standards (e.g. consensus standards developed by the Wholesale Gas Quadrant (WGQ)) are approved by the Commission, the Commission incorporates them by reference into its approval. The process of standardizing business practices in the natural gas industry began with a Commission initiative to standardize electronic communication of capacity release transactions. The outgrowth of the initial Commission standardization efforts produced working groups composed of all segments of the natural gas industry and, ultimately, the Gas Industry Standards Board (GISB), a consensus organization open to all members of the gas industry, was created. GISB was succeeded by NAESB.

⁸ A standards organization accredited by the American National Standards Institute (ANSI).

⁹ This series of orders began with the Commission's issuance of Standards for Business Practices of Interstate Natural Gas Pipelines, Order No. 587, FERC Stats. & Regs. 31,038 (1996).

NAESB is a voluntary non-profit organization comprised of members from the retail and wholesale natural gas and electric industries. NAESB's mission is to take the lead in developing standards across these industries to simplify and expand electronic communication and to streamline business practices. NAESB's core objective is to facilitate a seamless North American marketplace for natural gas, as recognized by its customers, the business community, industry participants, and regulatory bodies.

NAESB has divided its efforts among four quadrants including two retail quadrants, a wholesale electric quadrant, and the WGQ. The NAESB WGQ standards are a product of this effort. Industry participants seeking additional or amended standards (to include principles, definitions, standards, data elements, process descriptions, and technical implementation instructions) must submit a request to the NAESB office, detailing the change, so that the appropriate process may take place to amend the standards.

Failure to collect the FERC-549C data would prevent the Commission from monitoring and properly evaluating pipeline transactions and/or meeting statutory obligations under both the NGA and NGPA.

Type of Respondent: Natural gas pipelines under the jurisdictions of NGA and NGPA.

Estimate of Annual Burden: The Commission estimates the annual public reporting burden and cost for the information collection as:

FERC-549C: Standards for Business Practices of Interstate Natural Gas Pipelines
| Number of respondents | Average number of responses per respondent ¹⁰ | Total number of responses | Average burden hrs. & cost ($) per response ¹¹ | Total annual burden hours & total annual cost ($) | Cost per respondent (rounded) ($)
| (1) | (2) = (3) ÷ (1) | (3) | (4) | (3) * (4) = (5) | (5) ÷ (1)
Standards for Business Practices of Interstate Natural Gas Pipelines | 165 | 2.97 | 490 | 96 hrs.; $8,928 | 47,040 hrs.; $4,374,720 | $26,513

Comments: Comments are invited on: (1) Whether either collection of information is necessary for the proper performance of the functions of the Commission, including whether the information will have practical utility; (2) the accuracy of the agency's estimates of the burden and costs of the collection of information, including the validity of the methodology and assumptions used on each collection; (3) ways to enhance the quality, utility and clarity of either information collection; and (4) ways to minimize the burden of either collection of information on those who are to respond, including the use of automated collection techniques or other forms of information technology.

¹⁰ The average number of responses per respondent were calculated by dividing the total number of responses (Column 3) in each category by the number of responses (Column 1).

¹¹ The estimated hourly cost (salary plus benefits) provided in this section is based on the salary figures (http://www.bls.gov/oes/current/naics2_22.htm) and benefits (http://www.bls.gov/news.release/ecec.nr0.htm) for May 2017 posted by the Bureau of Labor Statistics for the Utilities sector. The hourly estimates for salary plus benefits are:

Petroleum Engineer (Occupation Code: 17-2171), $71.62

Computer Systems Analyst (Occupation Code: 15-1121), $67.82

Legal (Occupation Code: 23-0000), $143.68

Economist (Occupation Code: 19-3011), $71.98

The average hourly cost (salary plus benefits) is calculated weighting each of the aforementioned wage categories as follows: $71.62 (0.3) + $143.68 (0.3) + $67.82 (0.15) + $71.98 (0.25) = $92.76. The Commission rounds it to $93/hour.

Dated: October 25, 2018.
Kimberly D. Bose,
Secretary.

[FR Doc. 2018-23770 Filed 10-30-18; 8:45 am]

BILLING CODE 6717-01-P